DEPARTMENT OF AGRICULTURE

Animal and Plant Health Inspection Service

9 CFR Part 91

[Docket No. 02-127-1]

Ports Designated for Exportation of Livestock; Portland, OR

AGENCY: Animal and Plant Health Inspection Service, USDA.

ACTION: Direct final rule.

SUMMARY: We are amending the regulations regarding the exportation of livestock by designating Portland International Airport in Portland, OR, as a port of embarkation and B Bar C Ranch, in Gervais, OR, and Pony World Farm in Portland, OR, as export inspection facilities for that port. This rule will add a port of embarkation and export inspection facilities through which livestock may be processed for export.

DATES: This rule will be effective on July 18, 2003, unless we receive written adverse comments or written notice of intent to submit adverse comments by June 18, 2003.

ADDRESSES: You may submit comments or notice of intent to submit adverse comments by postal mail/commercial delivery or by e-mail. If you use postal mail/commercial delivery, please send four copies (an original and three copies) to: Docket No. 02-127-1, Regulatory Analysis and Development, PPD, APHIS, Station 3C71, 4700 River Road, Unit 118, Riverdale, MD 20737-1238. Please state that your comment refers to Docket No. 02-127-1. If you use e-mail, address your comment to regulations@aphis.usda.gov. Your comment must be contained in the body of your message; do not send attached files. Please include your name and address in your message and “Docket No. 02-127-1” on the subject line.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Roger Perkins, Senior Staff Veterinarian, Technical Trade Services, National Center for Import and Export, VS, APHIS, 4700 River Road, Unit 39, Riverdale, MD 20737-1231; (301) 734-8364.

SUPPLEMENTARY INFORMATION:

Background

The regulations in 9 CFR part 91, “Inspection and Handling of Livestock for Exportation” (referred to below as the regulations), prescribe conditions for exporting animals from the United States. The regulations state, among other things, that all animals, except animals exported by land to Canada or Mexico, must be exported through designated ports of embarkation, unless the exporter can show that the animals would suffer undue hardship if they were required to be moved to a designated port of embarkation.

Paragraph (a) of § 91.14 contains a list of designated ports of embarkation and export inspection facilities. To receive designation as a port of embarkation, a port must have an export inspection facility available for the inspection, holding, feeding, and watering of animals prior to exportation. The facility must meet the standards in § 91.14(c) concerning physical construction and size, inspection implements, cleaning and disinfection, feed and water, access by inspectors, animal handling arrangements, testing and treatment of animals, location, disposal of animal wastes, lighting, office and restroom facilities, and walkways.

B Bar C Ranch and Pony World Farm operate facilities near Portland International Airport, Portland, OR, that have served as export inspection facilities for equines on a case-by-case basis since September 2001 and March 2000, respectively. The companies have requested that we approve each facility as a permanent export inspection facility, which would enable them to contract for shipments of equines without first having to ask for permission from the Animal and Plant Health Inspection Service (APHIS). Both B Bar C Ranch and Pony World Farm have constructed facilities specifically for the inspection, holding, feeding, and watering of horses intended for export. Both facilities have passed a number of APHIS inspections and meet all of the requirements for use as an export facility. There are five APHIS veterinary medical officers assigned to offices located within 1 to 2 hours' drive who will be available to support the facilities. The number of equines moving through each facility is such that each facility could function effectively and efficiently on a permanent basis. Therefore, we are amending the regulations by adding Portland International Airport to the list of ports of embarkation in § 91.14(a) and by adding B Bar C Ranch and Pony World Farm as export inspection facilities for equines for that port.

Dates

We are publishing this rule without a prior proposal because we view this action as noncontroversial and anticipate no adverse public comment. This rule will be effective, as published in this document, on July 18, 2003, unless we receive written adverse comments or written notice of intent to submit adverse comments on or before June 18, 2003.

Adverse comments are comments that suggest the rule should not be adopted or that suggest the rule should be changed.

If we receive written adverse comments or written notice of intent to submit adverse comments, we will publish a document in the Federal Register withdrawing this rule before the effective date. We will then publish a proposed rule for public comment.

As discussed previously, if we receive no written adverse comments or written notice of intent to submit adverse comments within 30 days of publication of this direct final rule, this direct final rule will become effective 60 days following its publication. We will publish a document in the Federal Register, before the effective date of this direct final rule, confirming that it is effective on the date indicated in this document.

Executive Order 12866 and Regulatory Flexibility Act

This rule has been reviewed under Executive Order 12866. For this action, the Office of Management and Budget has waived its review under Executive Order 12866.

Background

In the year 2002, receipts from trade in live animals (cattle, horses, sheep, swine and goats) totaled approximately $495 million dollars.¹ Trade in this market is directly linked to ports of embarkation, along with the associated export inspection facilities. This rule will designate Portland International Airport as a port of embarkation from which animals can be exported from the United States and B Bar C Ranch and Pony World Farm as export inspection facilities. These inspection facilities meet the standards described in the regulations, which range from the use of prescribed building materials to procedures for cleaning and disinfecting the facility.

¹ World Trade Atlas, based on Bureau of Census data.

In 2000-2001, there were approximately 21,000 livestock operations in Oregon ² and production of all livestock products in the State for that year was valued at $786.1 million.³ Of the 21,000 livestock operations, more than 90 percent are classified as small businesses.⁴ Consequently, this analysis of the economic effects of adding a port of embarkation, along with the associated inspection facilities, is also sufficient for analyzing the small entity impact.

² USDA, Agricultural Statistics 2002. Washington, DC: National Agricultural Statistics Service, 2002.

³ OASS, Oregon Livestock, Dairy, and Poultry 2000. Portland, OR: Oregon Agricultural Statistics Service 2000-2001.

⁴ A small livestock operation is one having $750,000 or less in annual receipts. Table of Size Standards based on NAICS 2002. Washington, DC: U.S. Small Business Administration, 2002.

Impact on Small Entities

In 2000-2001, the total earnings in Oregon from exports of live animals and meat were more than $8.9 million.⁵ Currently, the State of Oregon does not have a designated port of embarkation or approved export inspection facilities. As such, livestock owners wishing to export their animals have to first transport the cargo to one of the nearest port and inspection facilities, located in California and Washington. The cost savings resulting from decreased transportation cost will result in a monetary benefit for exporters of livestock, primarily through reduced fuel charges. Of course, the more a particular livestock owner is involved in the export of live animals, the greater the cost savings will be. However, it is clear that in terms of per animal value, the reduced cost of fuel to transport animals to ports of embarkation would not likely result in significant savings.

⁵ USDA, U.S. Agricultural Exports. Washington, DC: Foreign Agricultural Service, 2002.

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This rule has been reviewed under Executive Order 12988, Civil Justice Reform. This rule: (1) Preempts all State and local laws and regulations that are inconsistent with this rule;

(2) has no retroactive effect; and (3) does not require administrative proceedings before parties may file suit in court challenging this rule.

Paperwork Reduction Act

This rule contains no new information collection or recordkeeping requirements under the Paperwork Reduction Act of 1995 (44 U.S.C. 3501 et seq.).

List of Subjects in 9 CFR Part 91

Animal diseases, Animal welfare, Exports, Livestock, Reporting and recordkeeping requirements, Transportation.

Accordingly, 9 CFR part 91 is amended as follows:

PART 91—INSPECTION AND HANDLING OF LIVESTOCK FOR EXPORTATION

1. The authority citation for part 91 continues to read as follows:

Authority: 7 U.S.C. 8301-8317; 19 U.S.C. 1644a(c); 21 U.S.C. 136, 136a, and 618; 46 U.S.C. 3901 and 3902; 7 CFR 2.22, 2.80, and 371.4.

2. In § 91.14, paragraphs (a)(14) through (a)(18) are redesignated as paragraphs (a)(15) through (a)(19), respectively, and a new paragraph (a)(14) is added to read as follows:

§ 91.14 Ports of embarkation and export inspection facilities.

(a) * * *

(14) Oregon.

(i) Portland International Airport.

(A) B Bar C Ranch, 6460 Highway 219, Gervais, OR 97026, (503) 981-1600.

(B) Pony World Farm, 13630 NW., Springville Lane, Portland, OR 97229, (503) 330-8300.

(ii) [Reserved]

* * * * *

Done in Washington, DC, this 13th day of May 2003 .
Peter Fernandez,
Acting Administrator, Animal and Plant Health Inspection Service.

[FR Doc. 03-12389 Filed 5-16-03; 8:45 am]

BILLING CODE 3410-34-P